DEPARTMENT OF AGRICULTURE

Agricultural Marketing Service

7 CFR Part 989

[Doc. No. AMS-FV-08-0042; FV08-989-2 PR]

Raisins Produced From Grapes Grown in California; Withdrawal of a Proposed Rule

AGENCY: Agricultural Marketing Service, USDA.

ACTION: Withdrawal of proposed rule.

SUMMARY: This document withdraws a proposed rule published in the Federal Register on July 18, 2008, on use of an estimated trade demand figure to compute volume regulation percentages for 2008-09 Natural (sun-dried) Seedless (NS) raisins covered under the Federal marketing order for California raisins (order). The order regulates the handling of raisins produced from grapes grown in California and is administered locally by the Raisin Administrative Committee (Committee). The proposal provided parameters for implementing volume regulation for 2008-09 NS raisins, if supplies were short, for the purpose of maintaining the industry's export markets and stabilizing the domestic market. Since the 2008-09 NS crop was larger than anticipated, this action is no longer warranted. Therefore, the proposed rule is being withdrawn.

DATES: The proposed rule published on July 18, 2008 (73 FR 41302), is withdrawn effective November 25, 2009.

FOR FURTHER INFORMATION CONTACT: Rose M. Aguayo, Marketing Specialist, or Kurt J. Kimmel, Regional Manager, California Marketing Field Office, Marketing Order Administration Branch, Fruit and Vegetable Programs, AMS, USDA; Telephone: (559) 487-5901, Fax: (559) 487-5906, or E-mail: Rose.Aguayo@ams.usda.gov or Kurt.Kimmel@ams.usda.gov.

Small businesses may request information on complying with this regulation by contacting Jay Guerber, Marketing Order Administration Branch, Fruit and Vegetable Programs, AMS, USDA, 1400 Independence Avenue, SW., STOP 0237, Washington, DC 20250-0237; Telephone: (202) 720-2491, Fax: (202) 720-8938, or E-mail: Jay.Guerber@usda.gov.

SUPPLEMENTARY INFORMATION: Marketing Agreement and Order No. 989, both as amended (7 CFR part 989), regulate the handling of raisins produced from grapes grown in California, hereinafter referred to as the “order.” The order is effective under the Agricultural Marketing Agreement Act of 1937, as amended (7 U.S.C. 601-674), hereinafter referred to as the “Act.”

This action withdraws a proposed rule published in the Federal Register on July 18, 2008 (73 FR 41302), on use of an estimated trade demand figure to compute volume regulation percentages for 2008-09 NS raisins. Specifically, the proposed rule would have provided parameters for implementing volume regulation for 2008-09 crop NS raisins, if supplies were short, for the purpose of maintaining a raisin reserve pool to support a portion of the industry's export markets and help stabilize the domestic market.

Historically, reserve raisins have been used by the Committee to support market development programs that have strengthened export sales and reduced surpluses, thus stabilizing the domestic market. In two previous years when raisin supplies were low, the Committee recommended an alternative method of calculating its volume control percentages, including the use of an estimated trade demand figure, to ensure that a reserve was maintained and the export programs could continue from year to year.

Subsequent to publication of the proposed rule, the Committee determined that the 2008-09 crop was larger than anticipated and that use of the alternative method for calculating volume control percentages would be unnecessary for that crop year. Therefore, the proposed action is no longer warranted.

Accordingly, the proposed rule regarding use of an estimated trade demand figure to compute volume regulation percentages for 2008-09 NS raisins published in the Federal Register July 18, 2008 (73 FR 41302), is hereby withdrawn.

List of Subjects in 7 CFR Part 989

Grapes, Marketing agreements, Raisins, Reporting and recordkeeping requirements.

Authority: 7 U.S.C. 601-674.

Dated: November 17, 2009.
Rayne Pegg,
Administrator, Agricultural Marketing Service.

[FR Doc. E9-28149 Filed 11-24-09; 8:45 am]

BILLING CODE 3410-02-P